DEPARTMENT OF AGRICULTURE

Foreign Agricultural Service

Trade Adjustment Assistance for Farmers

AGENCY: Foreign Agricultural Service, USDA.

ACTION: Notice.

The Administrator, Foreign Agricultural Service (FAS), certified a petition for trade adjustment assistance (TAA) that was filed on February 23, 2004, by the North Carolina Fisheries Association. The association represents North Carolina shrimpers. Shrimpers in North Carolina are now eligible to apply for program benefits.

SUPPLEMENTARY INFORMATION: Upon investigation, the Administrator determined that increased imports of farmed shrimp contributed importantly to a decline in the landed prices of shrimp in North Carolina by 23.8 percent during January 2002 through December 2002, when compared with the previous 5-year average.

Shrimpers certified as eligible for TAA may apply to the Farm Service Agency for benefits through June 28, 2004. After submitting completed applications, producers shall receive technical assistance provided by the Cooperative State Research, Education, and Extension Service (CSREES) at no cost and may receive adjustment assistance payments, if certain program criteria are met.

Producers of raw agricultural commodities wishing to learn more about TAA and how they may apply should contact the Department of Agriculture at the addresses provided below for general information.

Producers Certified As Eligible For TAA, Contact: Farm Service Agency service centers in North Carolina.

For General Information About TAA, Contact: Jean-Louis Pajot, Coordinator, Trade Adjustment Assistance for Farmers, FAS, USDA, (202) 720-2916, email:trade.adjustment@fas.usda.gov.

Dated: April 1, 2004.
A. Ellen Terpstra,
Administrator, Foreign Agricultural Service.

[FR Doc. 04-7761 Filed 4-2-04; 8:45 am]

BILLING CODE 4310-10-M